INTERNATIONAL TRADE COMMISSION

[Investigation No. 337-TA-1282]

Certain Tunable Lenses and Products Containing the Same; Notice of the Commission's Determination Not To Review an Initial Determination Terminating the Investigation on the Basis of Settlement; Termination of the Investigation

AGENCY: U.S. International Trade Commission.

ACTION: Notice.

SUMMARY: Notice is hereby given that the U.S. International Trade Commission has determined not to review the presiding administrative law judge's (“ALJ”) initial determination (“ID”) (Order No. 13) terminating the investigation on the basis of settlement. The investigation is terminated.

FOR FURTHER INFORMATION CONTACT: Amanda Pitcher Fisherow, Esq., Office of the General Counsel, U.S. International Trade Commission, 500 E Street SW, Washington, DC 20436, telephone (202) 205-2737. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on October 28, 2021, based on a complaint filed by Holochip Corporation of Torrance, California. 86 FR 59757-58 (Oct. 28, 2021). The complaint, as supplemented, alleged violations of section 337 of the Tariff Act of 1930, as amended, 19 U.S.C. 1337, based upon the importation into the United States, the sale for importation, and the sale within the United States after importation of certain tunable lenses and products containing the same by reason of infringement of certain claims of U.S. Patent No. 8,064,142; U.S. Patent No. 8,605,361; U.S. Patent No. 8,665,527; and U.S. Patent No. 9,442,225. The complaint, as amended, further alleged that a domestic industry exists. The notice of investigation named as respondents Optotune AG of Dietikon, Switzerland, and Edmund Optics, Inc. of Barrington, New Jersey. Id.

On March 7, 2022, the private parties filed a joint motion to terminate the investigation based on settlement. On March 10, 2022, the presiding ALJ issued Order No. 13, granting the joint motion. The ALJ determined that the motion complied with Commission Rule, 210.21(b), 19 CFR 210.21(b). The ALJ also determined that there is no evidence that termination of this investigation would adversely affect the public interest. No one petitioned for review of the ID.

The Commission has determined not to review the ID. The investigation is terminated.

The Commission vote for this determination took place on April 1, 2022.

The authority for the Commission's determination is contained in section 337 of the Tariff Act of 1930, as amended (19 U.S.C. 1337), and in part 210 of the Commission's Rules of Practice and Procedure (19 CFR part 210).

By order of the Commission.
Issued: April 1, 2022.
Lisa Barton,
Secretary to the Commission.

[FR Doc. 2022-07350 Filed 4-6-22; 8:45 am]

BILLING CODE 7020-02-P